DEPARTMENT OF COMMERCE

U.S. Census Bureau

Agency Information Collection Activities; Submission to the Office of Management and Budget (OMB) for Review and Approval; Comment Request; Annual Wholesale Trade Survey

AGENCY: U.S. Census Bureau, Commerce.

ACTION: Notice of Information Collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed revision of the Annual Wholesale Trade Survey, prior to the submission of the information collection request (ICR) to OMB for approval.

DATES: To ensure consideration, comments regarding this proposed information collection must be received on or before August 3, 2020.

ADDRESSES: Interested persons are invited to submit written comments by email to Thomas.J.Smith@census.gov. Please reference Annual Wholesale Trade Survey in the subject line of your comments. You may also submit comments, identified by Docket Number USBC-2020-0014, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to John Dougherty, Chief, Wholesale Trade Branch, Economy-Wide Statistics Division, U.S. Census Bureau, 4600 Silver Hill Road, Washington, DC 20233; (301) 763-8936; or john.dougherty@census.gov.

SUPPLEMENTARY INFORMATION:

I. Abstract

The Annual Wholesale Trade Survey (AWTS) covers employer firms with establishments located in the United States and classified in the wholesale trade sector, as defined by the North American Industry Classification System (NAICS). This includes distributors, manufacturers' sales branches and offices, and agents and brokers.

Firms are selected for this survey using a stratified simple random sample. For the AWTS, the strata are defined by type of operation, industry, and annual sales size. The sample is drawn from the Business Register (BR), which is the Census Bureau's master business list. The BR contains basic economic information for more than 7.4 million employer businesses and over 22.5 million nonemployer businesses; it is updated through direct data collections and administrative records from other federal agencies. In order to account for new businesses (births) and businesses that discontinue operations (deaths), the AWTS sample is updated quarterly. The sample is also updated to reflect mergers, acquisitions, divestitures, splits, and other changes to the business universe.

Data are collected electronically using Centurion, the Census Bureau's secure online reporting instrument. This system is designed to make the reporting process more flexible and convenient for respondents. The response-driven nature of the instrument also reduces respondent burden. Data are automatically stored, and the results are available immediately to the Census Bureau. If a company does not have access to the internet, the Census Bureau can arrange for the business to provide its data to an analyst via telephone.

The data items requested in the AWTS include annual sales, e-commerce sales, number of establishments, inventories, purchases, operating expenses, commissions, sales on own account, and gross selling value. In response to a request from the Bureau of Economic Analysis (BEA), the 2022 AWTS will also collect detailed operating expenses and sales tax information. Respondents are only asked to provide data for these two items in years ending in 2 and 7, which coincide with the Economic Census collection. For survey year 2020, the AWTS may include additional questions related to the impact coronavirus disease 2019 (COVID-19) had on firms. A final decision has not been made yet on the inclusion of these questions.

From survey year 2016 through survey year 2019, there were five electronic form types (SA-42, SA-42A, SA-42A-MSBO, SA-42-AGBR, and SA-42A-AGBR). Starting with survey year 2020 (which will be collected in 2021), there will only be three electronic form types (SA-42A, SA-42A-MSBO, and SA-42A-AGBR). SA-42 and SA-42-AGBR are being removed to streamline data collection operations and reduce respondent burden. Each of the three remaining form types will continue to ask a different subset of the data items previously mentioned. This ensures businesses only see items that are relevant to their type of operation.

Government agencies, private businesses, and researchers often use the estimates generated from the AWTS. For example, the AWTS serves as a benchmark for the estimates produced from the Census Bureau's Monthly Wholesale Trade Survey (MWTS). BEA utilizes the data when developing its gross domestic product (GDP) estimates and the national accounts' input-output tables. The Bureau of Labor Statistics (BLS) uses the data as an input to its producer price indices and in developing productivity measurements. Furthermore, business and industry groups utilize the data to forecast future demand.

Estimates generated from the AWTS are released to the public approximately 14 months after the reference year has concluded. These national-level estimates are published (for the various items collected) by NAICS code and type of operation. Currently, the data are disseminated through the AWTS website. Beginning with survey year 2020, the Census Bureau also will release the data via the Census Bureau's dissemination platform, data.census.gov.

II. Method of Collection

The Census Bureau primarily collects this information via the internet. In the rare situation where a respondent does not have access to the internet, the data are collected by telephone.

III. Data

OMB Control Number: 0607-0195.

Form Number(s): SA-42A, SA-42A-MSBO, SA-42A-AGBR.

Type of Review: Regular submission, Revision of a currently approved collection.

Affected Public: Business or other for-profit organizations.

Estimated Number of Respondents: 7,743.

Estimated Time per Response: 31.2 minutes (2020 and 2021 survey years). 85.2 minutes (2022 survey year—additional items collected).

Estimated Total Annual Burden Hours: 4,026 hours (2020 and 2021 survey years). 10,995 hours (2022 survey year—additional items collected).

Estimated Total Annual Cost to Public: $0 (This is not the cost of respondents' time, but the indirect costs respondents may incur for such things as purchases of specialized software or hardware needed to report, or expenditures for accounting or records maintenance services required specifically by the collection.)

Respondent's Obligation: Mandatory.

Legal Authority: Title 13 U.S.C. Sections 131 and 182.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-11961 Filed 6-2-20; 8:45 am]

BILLING CODE 3510-07-P